DEPARTMENT OF ENERGY

Federal Energy Regulatory Commission

Combined Notice of Filings #1

Take notice that the Commission received the following electric corporate filings:

Docket Numbers: EC24-108-000.

Applicants: St. Joseph Energy Center, LLC, Wabash Valley Power Association, Inc.

Description: Joint Application for Authorization Under Section 203 of the Federal Power Act of St. Joseph Energy Center, LLC, et al.

Filed Date: 8/5/24.

Accession Number: 20240805-5170.

Comment Date: 5 p.m. ET 8/26/24.

Take notice that the Commission received the following exempt wholesale generator filings:

Docket Numbers: EG24-250-000.

Applicants: Ponderosa Wind II, LLC.

Description: Ponderosa Wind II, LLC submits Notice of Self-Certification of Exempt Wholesale Generator Status.

Filed Date: 8/6/24.

Accession Number: 20240806-5120.

Comment Date: 5 p.m. ET 8/27/24.

Docket Numbers: EG24-251-000.

Applicants: Oliver Wind IV, LLC.

Description: Oliver Wind IV, LLC submits Notice of Self-Certification of Exempt Wholesale Generator Status.

Filed Date: 8/6/24.

Accession Number: 20240806-5122.

Comment Date: 5 p.m. ET 8/27/24.

Docket Numbers: EG24-252-000.

Applicants: Steele Flats Wind I, LLC.

Description: Steele Flats Wind I, LLC submits Notice of Self-Certification of Exempt Wholesale Generator Status.

Filed Date: 8/6/24.

Accession Number: 20240806-5123.

Comment Date: 5 p.m. ET 8/27/24.

Docket Numbers: EG24-253-000.

Applicants: Minco II Energy Storage, LLC.

Description: Minco II Energy Storage, LLC submits Notice of Self-Certification of Exempt Wholesale Generator Status.

Filed Date: 8/6/24.

Accession Number: 20240806-5125.

Comment Date: 5 p.m. ET 8/27/24.

Docket Numbers: EG24-254-000.

Applicants: Breckinridge Energy Storage, LLC.

Description: Breckinridge Energy Storage, LLC submits Notice of Self-Certification of Exempt Wholesale Generator Status.

Filed Date: 8/6/24.

Accession Number: 20240806-5126.

Comment Date: 5 p.m. ET 8/27/24.

Take notice that the Commission received the following Complaints and Compliance filings in EL Dockets:

Docket Numbers: EL24-131-000.

Applicants: Millheim Solar I, LLC v. PJM Interconnection, L.L.C.

Description: Complaint of Millheim Solar I, LLC v. PJM Interconnection, L.L.C.

Filed Date: 8/6/24.

Accession Number: 20240806-5086.

Comment Date: 5 p.m. ET 8/26/24.

Take notice that the Commission received the following electric rate filings:

Docket Numbers: ER10-2126-009.

Applicants: Idaho Power Company.

Description: Notice of Change in Status of Idaho Power Company.

Filed Date: 7/31/24.

Accession Number: 20240731-5287.

Comment Date: 5 p.m. ET 8/21/24.

Docket Numbers: ER10-2137-032; ER10-2131-032; ER10-2138-033; ER10-2139-033; ER10-2140-032; ER10-2141-032; ER14-2187-026; ER14-2799-023; ER15-103-016; ER18-140-015; ER21-258-009; ER22-2144-007; ER22-2474-004; ER22-2475-004; ER23-2668-004; ER23-2895-002.

Applicants: Hardin Solar Energy II LLC, Richfield Solar Energy LLC, Top Hat Wind Energy Holdings LLC, Top Hat Wind Energy LLC, Invenergy Nelson Expansion LLC, Todd Solar LLC, Lackawanna Energy Center LLC, Invenergy Nelson LLC, Beech Ridge Energy Storage LLC, Grand Ridge Energy Storage LLC, Grand Ridge Energy V LLC, Grand Ridge Energy IV LLC, Grand Ridge Energy III LLC, Grand Ridge Energy II LLC, Grand Ridge Energy LLC, Beech Ridge Energy LLC.

Description: Notice of Change in Status of Beech Ridge Energy LLC, et al.

Filed Date: 7/31/24.

Accession Number: 20240731-5275.

Comment Date: 5 p.m. ET 8/21/24.

Docket Numbers: ER10-2475-033; ER10-1520-017; ER10-1521-017; ER10-2474-032; ER10-3246-026; ER11-4666-007; ER11-4667-007; ER12-295-006; ER13-1266-051; ER15-2211-048; ER20-2493-012; ER22-1385-011; ER23-674-007; ER23-676-007.

Applicants: BHE Power Watch, LLC, BHE Wind Watch, LLC, BHER Market Operations, LLC., OTCF, LLC, MidAmerican Energy Services, LLC, CalEnergy, LLC, NaturEner Rim Rock Wind Energy, LLC, NaturEner Glacier Wind Energy 2, LLC, NaturEner Glacier Wind Energy 1, LLC, PacifiCorp, Sierra Pacific Power Company, Occidental Power Marketing, L.P., Occidental Power Services, Inc., Nevada Power Company.

Description: Notice of Non-Material Change in Status of Nevada Power Company, et al.

Filed Date: 7/31/24.

Accession Number: 20240731-5276.

Comment Date: 5 p.m. ET 8/21/24.

Docket Numbers: ER10-2596-017; ER12-2200-012.

Applicants: Mehoopany Wind Energy LLC, Fowler Ridge II Wind Farm LLC.

Description: Notice of Change in Status of Fowler Ridge II Wind Farm LLC, et al.

Filed Date: 7/31/24.

Accession Number: 20240731-5284.

Comment Date: 5 p.m. ET 8/21/24.

Docket Numbers: ER10-2818-010; ER10-2806-010; ER10-2847-009; ER18-1984-005.

Applicants: Big Level Wind LLC, TransAlta Centralia Generation LLC, TransAlta Energy Marketing (U.S.) Inc., TransAlta Energy Marketing Corporation.

Description: Notice of Change in Status of TransAlta Energy Marketing Corporation, et al.

Filed Date: 7/31/24.

Accession Number: 20240731-5294.

Comment Date: 5 p.m. ET 8/21/24.

Docket Numbers: ER10-2984-067.

Applicants: Merrill Lynch Commodities, Inc.

Description: Notice of Change in Status of Merrill Lynch Commodities, Inc.

Filed Date: 7/31/24.

Accession Number: 20240731-5277.

Comment Date: 5 p.m. ET 8/21/24.

Docket Numbers: ER16-893-004; ER15-1066-004; ER16-892-003; ER16-1371-005; ER17-43-003; ER17-44-003; ER17-239-004; ER17-2318-003; ER18-697-002; ER18-2516-002; ER20-2472-001; ER21-207-001; ER21-2911-001; ER21-2912-001; ER22-123-002.

Applicants: Hecate Energy Highland LLC, Drew Solar-CA, LLC, Drew Solar, LLC, Rancho Seco Solar, LLC, Rancho Seco Solar II LLC, Willow Springs Solar, LLC, Gray Hawk Solar, LLC, Cuyama Solar, LLC, TPE Alta Luna, LLC, Portal Ridge Solar C, LLC, Portal Ridge Solar B, LLC, 63SU 8ME LLC, Red Horse III, LLC, Red Horse Wind 2, LLC, 62SK 8ME LLC.

Description: Triennial Market Power Analysis for Southwest Region of 62SK 8ME LLC, et al.

Filed Date: 7/31/24.

Accession Number: 20240731-5282.

Comment Date: 5 p.m. ET 9/30/24.

Docket Numbers: ER17-2088-007; ER10-2136-024; ER11-4044-035; ER11-4046-034; ER16-2035-007; ER21-2715-008; ER21-2716-008; ER22-2091-008; ER23-1846-005; ER23-2726-003; ER24-1576-003.

Applicants: Maple Flats Solar Energy Center LLC, Walnut Bend Solar LLC, Boomtown Solar Energy LLC, Calhoun Solar Energy LLC, Fairbanks Solar Holdings LLC, Fairbanks Solar Energy Center LLC, Black Oak Wind, LLC, Gratiot County Wind II LLC, Gratiot County Wind LLC, Invenergy Cannon Falls LLC, Apple Blossom Wind, LLC.

Description: Notice of Change in Status of Apple Blossom Wind, LLC, et al.

Filed Date: 7/31/24.

Accession Number: 20240731-5281.

Comment Date: 5 p.m. ET 8/21/24.

Docket Numbers: ER20-649-007; ER11-47-017; ER12-1540-015; ER12-1541-015; ER12-1542-015; ER12-1544-015; ER14-594-021; ER14-867-007; ER14-868-008; ER17-1930-010; ER17-1931-010; ER17-1932-010; ER19-606-007; ER20-2000-004; ER21-2555-002; ER21-2556-002.

Applicants: South River OnSite Generation, LLC, Martinsville OnSite Generation, LLC, Clyde Onsite Generation, LLC, AEP Generation Resources Inc., Southwestern Electric Power Company, AEP Texas Inc., Public Service Company of Oklahoma, AEP Retail Energy Partners, AEP Energy, Inc., Ohio Power Company, Wheeling Power Company, Kingsport Power Company, Kentucky Power Company, Indiana Michigan Power Company, Indiana Michigan Power Company, Appalachian Power Company, Ohio Power Company, Kingsport Power Company, Columbus Southern Power Company, Kentucky Power Company, Wheeling Power Company, AEP Energy Partners, Inc.

Description: Notice of Change in Status of AEP Energy Partners, Inc., et al.

Filed Date: 8/2/24.

Accession Number: 20240802-5173.

Comment Date: 5 p.m. ET 8/23/24.

Docket Numbers: ER20-681-010.

Applicants: Tri-State Generation and Transmission Association, Inc.

Description: Notice of Change in Status of Tri-State Generation and Transmission Association, Inc.

Filed Date: 7/31/24.

Accession Number: 20240731-5291.

Comment Date: 5 p.m. ET 8/21/24.

Docket Numbers: ER21-1225-006; ER22-867-003.

Applicants: Long Ridge Retail Electric Supplier LLC, Long Ridge Energy Generation LLC.

Description: Notice of Change in Status of Long Ridge Energy Generation LLC, et al.

Filed Date: 7/31/24.

Accession Number: 20240731-5288.

Comment Date: 5 p.m. ET 8/21/24.

Docket Numbers: ER22-123-003.

Applicants: Hecate Energy Highland LLC.

Description: Notice of Change in Status of Hecate Energy Highland LLC.

Filed Date: 7/31/24.

Accession Number: 20240731-5283.

Comment Date: 5 p.m. ET 8/21/24.

Docket Numbers: ER22-871-003; ER22-2925-003; ER22-2926-003.

Applicants: Jicarilla Storage 1 LLC, Jicarilla Solar 1 LLC, Jicarilla Solar 2 LLC.

Description: Notice of Change in Status of Jicarilla Solar 2 LLC, et al.

Filed Date: 7/31/24.

Accession Number: 20240731-5293.

Comment Date: 5 p.m. ET 8/21/24.

Docket Numbers: ER23-568-005.

Applicants: Big Cypress Solar, LLC.

Description: Notice of Change in Status of Big Cypress Solar, LLC.

Filed Date: 7/31/24.

Accession Number: 20240731-5280.

Comment Date: 5 p.m. ET 8/21/24.

Docket Numbers: ER23-2066-001; ER10-2529-008; ER10-2534-009; ER22-1065-004; ER22-2622-003; ER23-1595-003.

Applicants: LRE Energy Services, LLC, Chaparral Springs, LLC, Rabbitbrush Solar, LLC, Kumeyaay Wind LLC, Buena Vista Energy, LLC, Antelope Valley BESS, LLC.

Description: Notice of Non-Material Change in Status of Antelope Valley BESS, LLC, et al.

Filed Date: 7/31/24.

Accession Number: 20240731-5292.

Comment Date: 5 p.m. ET 8/21/24.

Docket Numbers: ER23-2448-003.

Applicants: Tunica Windpower LLC.

Description: Notice of Change in Status of Tunica Windpower LLC.

Filed Date: 7/31/24.

Accession Number: 20240731-5286.

Comment Date: 5 p.m. ET 8/21/24.

Docket Numbers: ER24-116-002.

Applicants: Rhythm Ops, LLC.

Description: Notice of Change in Status of Rhythm Ops, LLC.

Filed Date: 7/31/24.

Accession Number: 20240731-5285.

Comment Date: 5 p.m. ET 8/21/24.

Docket Numbers: ER24-750-002; ER24-1980-001; ER24-1981-001; ER24-1983-001.

Applicants: West Warwick Energy Storage 3 LLC, West Warwick Energy Storage 2 LLC, West Warwick Energy Storage 1 LLC, Town Hill Energy Storage 1 LLC.

Description: Notice of Non-Material Change in Status of Town Hill Energy Storage 1 LLC, et al.

Filed Date: 7/31/24.

Accession Number: 20240731-5295.

Comment Date: 5 p.m. ET 8/21/24.

Docket Numbers: ER24-1382-001; ER23-2376-001.

Applicants: Horus West Virginia I, LLC, Horus Louisiana 1, LLC.

Description: Notice of Change in Status of Horus Louisiana 1, LLC.

Filed Date: 7/31/24.

Accession Number: 20240731-5289.

Comment Date: 5 p.m. ET 8/21/24.

Docket Numbers: ER24-1743-002.

Applicants: PJM Interconnection, L.L.C.

Description: Tariff Amendment: Amendment to Revisions in ER24-1743 to be effective 6/1/2023.

Filed Date: 8/6/24.

Accession Number: 20240806-5121.

Comment Date: 5 p.m. ET 8/27/24.

Docket Numbers: ER24-2257-001.

Applicants: Lockhart CL ESS I, LLC.

Description: Tariff Amendment: Supplement to Market-Based Rate Application and Request for Expedited Action to be effective 8/12/2024.

Filed Date: 8/6/24.

Accession Number: 20240806-5115.

Comment Date: 5 p.m. ET 8/27/24.

Docket Numbers: ER24-2258-001.

Applicants: Lockhart CL ESS II, LLC.

Description: Tariff Amendment: Supplement to Market-Based Rate Application and Request for Expedited Action to be effective 8/12/2024.

Filed Date: 8/6/24.

Accession Number: 20240806-5116.

Comment Date: 5 p.m. ET 8/27/24.

Docket Numbers: ER24-2705-000.

Applicants: Pacific Gas and Electric Company.

Description:§ 205(d) Rate Filing: Unexecuted Agua Amarga Wind LGIA TO SA 484 to be effective 8/6/2024.

Filed Date: 8/5/24.

Accession Number: 20240805-5152.

Comment Date: 5 p.m. ET 8/26/24.

Docket Numbers: ER24-2707-000.

Applicants: Mid-Atlantic Interstate Transmission, LLC, PJM Interconnection, L.L.C.

Description: § 205(d) Rate Filing: Mid-Atlantic Interstate Transmission, LLC submits tariff filing per 35.13(a)(2)(iii: MAIT submits amended IA, SA No. 4577 re: FirstEnergy Reorganization to be effective 10/7/2024.

Filed Date: 8/6/24.

Accession Number: 20240806-5026.

Comment Date: 5 p.m. ET 8/27/24.

Docket Numbers: ER24-2708-000.

Applicants: Public Service Company of Colorado.

Description: § 205(d) Rate Filing: PSC-CCR-AP-2023-2-APFSA-822-0.0.0 to be effective 10/6/2024.

Filed Date: 8/6/24.

Accession Number: 20240806-5050.

Comment Date: 5 p.m. ET 8/27/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 6, 2024.
Debbie-Anne A. Reese,
Acting Secretary.

[FR Doc. 2024-17963 Filed 8-12-24; 8:45 am]

BILLING CODE 6717-01-P